DEPARTMENT OF VETERANS AFFAIRS

[OMB Control No. 2900-0178]

Agency Information Collection Activity Under OMB Review: On-the-Job and Apprenticeship Training

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before September 20, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0178” in any correspondence.

FOR FURTHER INFORMATION CONTACT: Cynthia Harvey-Pryor, Department Clearance Officer—OI&T (005R1B), Department of Veterans Affairs, 810 Vermont Avenue NW, Washington, DC 20420, (202) 461-5870 or email cynthia.harvey.pryor@va.gov. Please refer to “OMB Control No. 2900-0178.”

SUPPLEMENTARY INFORMATION:

Authority: 38 U.S.C. 3680.

Title: Monthly Certification of On-the-Job and Apprenticeship Training (VA Form 22-6553d and 22-6553d-1).

OMB Control Number: 2900-0178.

Type of Review: Reinstatement without change of a previously approved collection.

Abstract: Claimants receiving on the job and apprenticeship training complete VA Form 22-6553d to report the number of hours worked. Schools or training establishments also complete the form to report whether the claimant's educational benefits are to be continued, unchanged or terminated, and the effective date of such action. VA Form 22-6553d-1 is an identical printed copy of VA Form 22-6553d. Claimants use VA Form 22-6553d-1 when the computer-generated version of the form is not available. VA uses the data collected to process a claimant's educational benefit claim. An agency may not conduct or sponsor, and a person is not required to respond to a collection of information unless it displays a currently valid OMB control number. The Federal Register Notice with a 60-day comment period soliciting comments on this collection of information was published on April 9, 2018, at page 15238.

Affected Public: Individuals and Households.

Estimated Annual Burden: 11,384 hours.

Estimated Average Burden per Respondent: 10 minutes.

Frequency of Response: Monthly.

Estimated Number of Respondents: 68,301.

By direction of the Secretary.
Cynthia D. Harvey-Pryor,
Department Clearance Officer, Office of Quality, Privacy and Risk, Department of Veterans Affairs.

[FR Doc. 2018-17952 Filed 8-20-18; 8:45 am]

BILLING CODE 8320-01-P